DEPARTMENT OF TRANSPORTATION

Federal Aviation Administration

Third Meeting: RTCA Special Committee (235) Non-Rechargeable Lithium Batteries

AGENCY: Federal Aviation Administration (FAA), U.S. Department of Transportation (DOT).

ACTION: Notice of Third RTCA Special Committee 235 Meeting.

SUMMARY: The FAA is issuing this notice to advise the public of the Third RTCA Special Committee 235 meeting.

DATES: The meeting will be held April 26-27, 2016 from 8:30 a.m.-5:30 p.m.

ADDRESSES: The meeting will be held at Radiant Power Corporation, 7135 16th Street East, Suite 101, Sarasota, FL 34243, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 235. The agenda will include the following:

Tuesday, April 26, 2016 (8:30 a.m.-5:30 p.m.)

1. Welcome and Administrative Remarks

2. Introductions

3. Agenda Review

4. Meeting—Minutes Review

5. Update of PMC Approval TOR Revision

6. Status Report of Working-Group Leaders and key items to be brought to Plenary for discussion

a. WG-1/3

i. Template

ii. Section 1

iii. Section 2—Requirements

b. WG-2

i. Section 2—Tests and Compliance Matrix

7. Review of program schedule

8. Action Item Review

9. Any other Business

10. Date and Place of Next Meeting

11. Adjourn

Wednesday, April 27, 2016 (8:30 a.m.-4:00 p.m.)

1. Continuation of Plenary or Working Group Session

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on March 3, 2016.
Latasha Robinson,
Management & Program Analyst, NextGen, Enterprise Support Services Division, Federal Aviation Administration.

[FR Doc. 2016-05311 Filed 3-9-16; 8:45 am]

BILLING CODE 4910-13-P